DEPARTMENT OF THE INTERIOR

Bureau of Land Management

[19X LLWO230 L11100000.PN0000 LXSGPL000000]

Notice of Availability of Record of Decision and Approved Resource Management Plan Amendment for Greater Sage-Grouse Conservation, Wyoming

AGENCY: Bureau of Land Management, Interior.

ACTION: Notice of Availability.

SUMMARY: The Bureau of Land Management (BLM) announces the availability of the Record of Decision (ROD) for the Approved Resource Management Plan (RMP) Amendment for Greater Sage-Grouse Conservation for the Wyoming Greater Sage-Grouse Sub-Region. The State Director signed the ROD on March 15, 2019, which constitutes the final decision of the BLM and makes the Approved ROD effective immediately.

ADDRESSES: The ROD is available on the BLM ePlanning project website at https://goo.gl/FoqAn9. Click the Documents and Reports link on the left side of the screen to find the electronic version of these materials. Hard copies of the ROD are also available for public inspection at the Wyoming State Office, 5353 Yellowstone Road, Cheyenne, WY 82009.

FOR FURTHER INFORMATION CONTACT: Jenny Marzluf, Greater Sage-Grouse Implementation Coordinator by telephone, 307-775-6090; at the address above; or by email, jmarzluf@blm.gov. Persons who use a telecommunications device for the deaf may call the Federal Relay Service (FRS) at 1-800-877-8339 to contact Ms. Marzluf. The FRS is available 24 hours a day, 7 days a week, to leave a message or question with Ms. Marzluf. You will receive a reply during normal business hours.

SUPPLEMENTARY INFORMATION: The BLM developed the Wyoming Greater Sage-Grouse Approved RMP Amendment to enhance cooperation with states by improving alignment with state management plans and strategies for Greater Sage-Grouse while continuing to conserve, enhance, and restore the Greater Sage-Grouse and its habitat. The Approved RMP Amendment also addresses a legal vulnerability, which was exposed when a Federal District Court in Nevada determined that the BLM had violated the National Environmental Policy Act (NEPA) when it finalized the 2015 plans.

The BLM developed the Approved RMP Amendment in collaboration with the Wyoming Governor's Office, state wildlife managers, and other concerned organizations and individuals, largely through the Western Governors Association's Sage-Grouse Task Force. Using its discretion and authority under the Federal Land Policy and Management Act (FLPMA), the BLM amends land use plans that address Greater Sage-Grouse management to improve alignment with State of Wyoming plans and management strategies, in accordance with the BLM's multiple use and sustained yield mission.

This Approved RMP Amendment is one of six separate plan amendments developed and issued in response to the Secretary's Order (S.O.) 3353 (Greater Sage-Grouse Conservation and Cooperation with Western States) and in accordance with S.O. 3349 (American Energy Independence). The amendments refine the previous management plan adopted in 2015 to strike a regulatory balance and build greater trust among neighboring interests in Western communities.

The Wyoming Greater-Sage Grouse Approved RMP Amendment specifically addresses sagebrush focal areas, mitigation standards, clarification of habitat objectives tables, adjustments to habitat boundaries to reflect new information, and reversing adaptive management responses when the BLM determines that resource conditions no longer warrant those responses. The Approved RMP Amendment amends the following RMPs for BLM-administered lands in Wyoming:

• Buffalo RMP (2015)

• Casper RMP (2007)

• Cody RMP (2015)

• Kemmerer RMP (2010)

• Lander RMP (2014)

• Newcastle RMP (2000)

• Pinedale RMP (2008)

• Rawlins RMP (2008)

• Green River RMP (1997)

• Worland RMP (2015)

The planning area includes approximately 60 million acres of BLM, National Park Service, U.S. Forest Service, U.S. Bureau of Reclamation, state, local, and private lands located in 20 counties in Wyoming: Albany, Bighorn, Campbell, Carbon, Converse, Crook, Fremont, Hot Springs, Johnson, Lincoln, Natrona, Niobrara, Park, Sheridan, Sublette, Sweetwater, Teton, Uinta, Washakie, and Weston. Within the decision area, the BLM administers approximately 18 million acres of public land, providing approximately 17 million acres of priority and general Greater Sage-Grouse habitat. The ROD approves the Agency Preferred Alternative identified in the Final EIS. The BLM issued the ROD in compliance with relevant laws, regulations, policies, and plans, including those guiding agency decisions that may have an impact on resources and their values, services, and functions.

On December 10, 2018, the BLM published the Notice of Availability (NOA) for the Wyoming Greater Sage-Grouse Proposed RMP Amendment/Final EIS (83 FR 63525) in the Federal Register. The publication of the NOA initiated a 30-day protest period for the proposed land-use-planning decision. The protest period was later extended an additional seven days to help account for technical issues the public encountered when submitting protests during the partial Federal government shutdown in January 2019. The NOA publication also initiated a simultaneous 60-day review by the Governor of Wyoming to identify and inconsistencies with State or local plans, policies, or programs. At the close of the protest period, five protests had been received. These protests were resolved by the BLM Director; individual protest response letters were sent to all protesting parties. Protest resolution is contained in the Director's Protest Summary Report, which is available online at https://www.blm.gov/programs/planning-and-nepa/public-participation/protest-resolution-reports. The proposed RMP Amendment was not modified as a result of the protest resolution. The Wyoming Governor's review identified the several editorial changes that were accepted by the BLM. The BLM clarified that the 2019 Amendment applies to the BLM's management for Sage-Grouse over all prior versions. The BLM made sure that Management Decision MD SSS-5 is consistent with MD SSS-6. BLM updated Appendix A management directions for special status species numbers 7 through 10 to be consistent with the State's strategy and the process outlined in management direction special status species number 4. The BLM rearranged the sentences within management direction special status species number 12 to place “measures would be considered at the site-specific project level where and when appropriate” at the end of the management action, thereby putting the emphasis on considering new information for noise management. The BLM clarified how components in Appendix C would be used to sufficiently demonstrate that no undue harm to core area populations would be expected as a result of the proposed action and would not impact the statewide viability of the species, providing references to additional processes used when making that determination.

Authority: 40 CFR 1506.6.

Mary Jo Rugwell,
BLM Wyoming State Director.

[FR Doc. 2019-05292 Filed 3-19-19; 8:45 am]

BILLING CODE 4310-84-P